DEPARTMENT OF ENERGY

[Dockets No. EA-261 and EA-263]

Applications to Export Electric Energy; UBS AG, London Branch

AGENCY: Office of Fossil Energy, DOE.

ACTION: Notice of application.

SUMMARY: Under separate applications, UBS AG, London Branch (UBS) has applied for authority to transmit electric energy from the United States to Mexico and from the United States to Canada pursuant to section 202(e) of the Federal Power Act.

DATES: In Docket EA-261, comments, protests or requests to intervene must be submitted on or before May 15, 2002. In Docket EA-263, comments, protests or requests to intervene must be submitted on or before May 30, 2002.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-6667.

SUPPLEMENTARY INFORMATION: Exports of electricity from the United States to a foreign country are regulated and require authorization under section 202(e) of the Federal Power Act (FPA) (16 U.S.C. 824a(e)).

On April 11, 2002, the Office of Fossil Energy (FE) of the Department of Energy (DOE) received separate applications from UBS for authorization to transmit electric energy from the United States to Mexico and to Canada. UBS, a Swiss corporation formed in 1998 by the merger of Union Bank of Switzerland and Swiss Bank Corporation, is a power marketer that does not own or control any electric generation or transmission facilities nor does it have any franchised service territory in the United States. The designation “London Branch” indicates the principal booking location of the company's energy trading business; UBS AG London Branch and UBS AG are legally the same entity.

In FE Docket No. EA-261, UBS proposes to export electric energy to Mexico and to arrange for the delivery of those exports to Mexico over the international transmission facilities owned by San Diego Gas and Electric Company, El Paso Electric Company, Central Power and Light Company, and Comision Federal de Electricidad, the national electric utility of Mexico. UBS seeks expeditious approval of this application in order to participate in a solicitation for electric power by CFE during the summer of 2002. In FE Docket No. EA-263, UBS proposes to export electric energy to Canada and to arrange for the delivery of those exports over the international transmission facilities owned by Basin Electric Power Cooperative, Bonneville Power Administration, Citizens Utilities, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by UBS, as more fully described in the applications, has previously been authorized by a Presidential permit issued pursuant to Executive Order 10485, as amended.

Procedural Matters: Any person desiring to become a party to these proceedings or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the UBS applications to export electric energy to Mexico and/or Canada should be clearly marked with Docket EA-261 and/or Docket EA-263, respectively. Additional copies are to be filed directly with Sarah G. Novosel, Bracewell & Patterson, L.L.P., 2000 K Street, NW., Suite 500, Washington, DC 20006-1872 and Robert Frank, Director, Regulatory Affairs, UBS Warburg Energy, LLC, 1500 Louisiana Street, Houston, TX 77010.

A final decision will be made on these applications after the environmental impacts have been evaluated pursuant to the National Environmental Policy Act of 1969, and a determination is made by the DOE that the proposed actions will not adversely impact on the reliability of the U.S. electric power supply system.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on April 24, 2002.
Anthony J. Como,
Deputy Director, Electric Power Regulation, Office of Coal & Power Import/Export, Office of Coal & Power Systems, Office of Fossil Energy.

[FR Doc. 02-10571 Filed 4-29-02; 8:45 am]

BILLING CODE 6450-01-P